DEPARTMENT OF THE INTERIOR

Fish and Wildlife Service

[FWS-R6-R-2010-N257; 60138-1265-6CCP-S3]

South Dakota Prairie Winds Project; Partial Term Relinquishment and Release of Easement for Wind Energy Development; Record of Decision for the Final Environmental Impact Statement

AGENCY: Fish and Wildlife Service, Interior.

ACTION: Notice of availability: Record of decision.

SUMMARY: We, the U.S. Fish and Wildlife Service (Service), announce the availability of a record of decision (ROD) for the final environmental impact statement (FEIS) on the South Dakota Prairie Winds Project issued by the Department of Energy's Western Area Power Administration (Western), and the Department of Agriculture's Rural Utilities Service (RUS). Under the National Environmental Policy Act of 1969 (NEPA), as amended, and its implementing regulations, the Service participated as a cooperating agency in the preparation and release of the FEIS. The purpose of this ROD is to document the Service's decision to release and relinquish certain easement rights for the construction, operation, and maintenance of the proposed wind energy generation facilities on lands in Aurora County and Brule County, South Dakota, on which the Service holds an easement for waterfowl habitat protection. The action selected by the Service corresponds with the proposed alternative of the FEIS.

DATES: The Regional Director of the Mountain-Prairie Region, U.S. Fish and Wildlife Service, signed the ROD on November 5, 2010. We will implement the ROD immediately upon publication of this notice.

ADDRESSES: You may view or obtain copies of the ROD/FEIS by any of the following methods:

Web Site: Download a copy of the document(s) at http://www.fws.gov/mountain-prairie/SDPrairieWinds.

E-mail: Michael_J_Bryant@fws.gov. Include “South Dakota Prairie Winds Project” in the subject line of the message.

U.S. Mail: Michael Bryant, Project Leader, Lake Andes NWR Complex, 38672 291st St., Lake Andes, SD 57356.

In-Person Viewing or Pickup: Call Project Leader Michael Bryant, Lake Andes NWR Complex, at 605 487-7603 to make an appointment during regular business hours at Lake Andes NWR Complex, 38672 291st St., Lake Andes, SD 57356.

FOR FURTHER INFORMATION CONTACT: Project Leader Michael Bryant, Lake Andes NWR Complex, 38672 291st St., Lake Andes, SD 57356; 605 487-7603 (phone).

SUPPLEMENTARY INFORMATION: With this notice, we finalize the Service's portion of the NEPA (42 U.S.C. et seq.) process for the South Dakota Prairie Winds (SDPW) Project. Western and RUS issued the FEIS on the SDPW Project in response to a request from Prairie Winds, SD1, Incorporated (PW SD1), a wholly owned subsidiary of Basin Electric (Basin), to interconnect with the transmission system owned and operated by Western. Basin has requested financing for the project from the RUS. PW SD1 has also submitted an application to the Service to locate a portion of the project (6 out of 108 turbines) on lands on which the Service holds an easement for waterfowl habitat protection (grassland easement). The application required an action on the part of the Service. The Service participated as a cooperating agency in the preparation of the EIS by providing Western and RUS with resource impact information, maps, and site locations of waterfowl habitat easement properties within the project area. The Departments of Energy and Agriculture published the notice of intent to prepare an EIS for the SDPW Project and to conduct scoping meetings on April 7, 2009 (74 FR 15718), in the Federal Register. The draft EIS was released to the public and public comments were solicited in an Environmental Protection Agency notice of availability in the Federal Register notice on January 15, 2010 (75 FR 2540). The notice of availability of the Final EIS was published in a Federal Register Notice on July 30, 2010 (75 FR 44951).

Background

The purpose of the SDPW Project is to develop a technically feasible and economically viable wind-powered electrical generation resource using identified wind resources in Jerauld, Aurora, and Brule Counties in South Dakota. The project is designed to meet a portion of the projected increase in regional demands for electricity produced from renewable resources. Several States within Basin Electric's service territory, including Colorado, Minnesota, Montana, North Dakota, and South Dakota, have adopted Renewable Energy Objectives (REOs) that require renewable generation to meet a certain percentage of retail sales. The REOs adopted in the various States include both mandatory and voluntary goals that range from 10 to 25 percent of energy production to be generated or procured from an eligible energy technology by a specified deadline. Deadlines for compliance range from 2015 to 2025.

Public Involvement

Western and RUS employed various methods to provide information to the public and solicit input. The Agencies invited Federal, State, local, and tribal governments; Basin Electric; and other interested groups and persons to participate in defining the scope of the EIS. Venues for participation included two scoping meetings on April 28 and April 29, 2009, and one interagency meeting.

In addition to receiving comments at meetings, the agencies invited interested individuals to submit written comments via mail, fax, e-mail and/or the project website. The agencies continue to invite public input on the implementation of the ROD, which is available immediately.

Findings and Basis for Decision

Upon careful consideration of concerns and issues, Service guidelines and other appropriate laws and regulations, and with consideration for the need for and alternatives to this project, the Service has decided to accept the Crow Lake Alternative (Preferred Alternative) and release and relinquish certain easement rights for the construction, operation, and maintenance of proposed wind energy generation facilities on impacted lands in Aurora County and Brule County, South Dakota, on which the Service holds an Easement for Waterfowl Habitat Protection. Specifically, the Service will release and relinquish certain easement rights on 25.65 acres of land protected by grassland easement in exchange for easements of equal or greater habitat and monetary value on currently unprotected lands elsewhere.

The alternatives for the Prairie Winds Project are described in detail in the EIS. Alternatives that were developed were: No Action Alternative (i.e., wind turbines would have to be sited on lands not encumbered with Service easements, or the project would not be built); the Winner Alternative, which would involve the installation of wind turbines on 261 acres within an area of approximately 83,000 acres containing no Service easements; and the Crow Lake Alternative (Preferred Alternative), which would involve the installation of wind turbines on 131 acres within an area of approximately 36,000 acres. The primary basis for selection of the Crow Lake Alternative over the Winner Alternative was the greater overall habitat impacts, including impacts to the endangered American burying beetle, associated with the Winner Alternative.

The ROD documents the measures adopted to minimize the environmental impacts of the SDPW Project, including the acquisition of replacement acres; the preparation of a decommission plan; the requirement of a letter of credit to guarantee financing of the decommission plan; and the implementation of measures to protect wetlands and grassland-dependent wildlife, vegetation, cultural resources, and threatened and endangered species.

The development of the South Dakota Prairie Winds Project EIS and this decision are guided by, and authorized under, several laws, regulations, and Service policies, described as follows: The National Environmental Policy Act of 1969, as amended, requires environmental analysis of actions proposed by Federal agencies. The Council on Environmental Quality's regulations implementing NEPA at 40 CFR 1501.6 provide for the participation of another Federal action agency as a cooperating agency in the development of an Environmental Assessment or Environmental Impact Statement. In this instance, the Service has elected to be a Cooperating Agency to the Western and the RUS. The Endangered Species Act of 1973 (16 U.S.C. 1531 et seq.), as amended, provides for the conservation and recovery of listed species of plants and animals native to the United States and its territories. Section 7 of the Endangered Species Act requires Federal agencies to insure that any action authorized, funded, or carried out by them is not likely to jeopardize the continued existence of listed species or modify their critical habitat. The Migratory Bird Treaty Act (MBTA) prohibits the taking of any migratory birds without authorization from the Secretary of the Interior. The regulations of the National Wildlife Refuge System Administration Act of 1997, 16 U.S.C. 668dd-ee, require uses of the National Wildlife Refuge System (System) to be compatible.

Dated: November 5, 2010.
Stephen Guertin,
Regional Director, Region 6..

[FR Doc. 2010-28934 Filed 11-15-10; 8:45 am]

BILLING CODE 4310-55-P